DEPARTMENT OF THE INTERIOR

Geological Survey

[Docket No. USGS-2025-0007; OMB Control Number 1028-0087; GX25GL00DT7ST00]

Agency Information Collection Activities; Submission to the Office of Management and Budget for Review and Approval; National Geological and Geophysical Data Preservation Program (NGGDPP)

AGENCY: U.S. Geological Survey, Interior.

ACTION: Notice of Information Collection; request for comment.

SUMMARY: In accordance with the Paperwork Reduction Act (PRA) of 1995, the U.S. Geological Survey (USGS) is proposing to renew an information collection.

DATES: Interested persons are invited to submit comments on or before January 28, 2026.

ADDRESSES: You may submit comments by one of the following methods:

Internet: https://www.regulations.gov. Search for and submit comments on Docket No. USGS-2025-0007.

U.S. Mail: USGS, Information Collections Clearance Officer, 12201 Sunrise Valley Drive, MS 159, Reston, VA 20192.

FOR FURTHER INFORMATION CONTACT: Michele Wolf by email at mwolf@usgs.gov, or by telephone at (720) 326-0284. Individuals in the United States who are deaf, deafblind, hard of hearing, or have a speech disability may dial 711 (TTY, TDD, or TeleBraille) to access telecommunications relay services. Individuals outside the United States should use the relay services offered within their country to make international calls to the point-of-contact in the United States. You also may view the ICR at http://www.reginfo.gov/public/do/PRAMain.

SUPPLEMENTARY INFORMATION: In accordance with the PRA of 1995 (44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on July 23, 2025 (90 FR 34670). No comments were received.

As part of our continuing effort to reduce paperwork and respondent burdens, we are again soliciting comments from the public and other Federal agencies on the proposed ICR that is described below. We are especially interested in public comments addressing the following:

(1) Whether or not the collection of information is necessary for the proper performance of the functions of the agency, including whether the information will have practical utility;

(2) The accuracy of our estimate of the burden for this collection of information, including the validity of the methodology and assumptions used;

(3) Ways to enhance the quality, utility, and clarity of the information to be collected; and

(4) How the agency might minimize the burden of the collection of information on those who are to respond, including using appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: This notice concerns the collection of information that is sufficient and relevant to evaluate and select proposals for funding under the NGGDPP. We will accept proposals from state geological surveys requesting funds to inventory and assess the condition of current collections and data preservation needs. Financial assistance will be awarded annually on a competitive basis following the evaluation and ranking of state proposals by a review panel composed of representatives from the U.S. Department of the Interior, state geological surveys, and academic institutions. To submit a proposal, respondents must complete a project narrative and submit the application via http://www.grants.gov. Grant recipients must complete a final technical report at the end of the project period. Narrative and report guidance is available at the NGGDPP website (NGGDPP Grants | U.S. Geological Survey) or https://www.grants.gov and https://home.grantsolutions.gov.

Annual data preservation priorities are provided in the Program Announcement as guidance for applicants to consider when submitting proposals. Since its inception in 2007, NGGDPP has awarded 46 states with $32 million, which, when matched or exceeded by the states, amounts to over $64 million invested in the rescue and preservation efforts. We will protect information from respondents considered proprietary under the Freedom of Information Act (5 U.S.C. 552) and implementing regulations (43 CFR part 2), and under regulations at 30 CFR 250.197, “Data and information to be made available to the public or for limited inspection.” Responses are voluntary. No questions of a “sensitive” nature are asked. We intend to release the project abstracts and identify states for awarded/funded projects only.

Title of Collection: National Geological and Geophysical Data Preservation Program (NGGDPP).

OMB Control Number: 1028-0087.

Form Number: None.

Type of Review: Extension of a currently approved collection.

Respondents/Affected Public: All state geological surveys may apply for NGGDPP grants.

Total Estimated Number of Annual Respondents: 35.

Total Estimated Number of Annual Responses: 70 (35 applications, 35 final technical report submissions).

Estimated Completion Time per Response: Grant application time estimate is 80 hours; final technical report completion time estimate is 10 hours.

Total Estimated Number of Annual Burden Hours: 3,150.

Respondent's Obligation: Required to obtain or retain a benefit.

Frequency of Collection: Annually.

Total Estimated Annual Nonhour Burden Cost: None.

An agency may not conduct or sponsor and a person is not required to respond to a collection of information unless it displays a currently valid OMB control number.

The authority for this action is the PRA of 1995 (44 U.S.C. 3501 et seq.).

Michele Wolf,
NGGDPP Science Advisor (acting).

[FR Doc. 2025-23888 Filed 12-23-25; 8:45 am]

BILLING CODE P